Executive Order 13173 of October 25, 2000

Interagency Task Force on the Economic Development of the Central San Joaquin Valley

By the authority vested in me as President by the Constitution and the laws of the United States of America, and in order to provide a more rapid and integrated Federal response to the economic development challenges of the Central San Joaquin Valley (Valley), it is hereby ordered as follows:

Section 1.(a) There is established the “Interagency Task Force on the Economic Development of the Central San Joaquin Valley” (Task Force).

(b) The Task Force shall include the Secretary of Agriculture, the Secretary of Commerce, the Secretary of Defense, the Attorney General, the Secretary of the Interior, the Secretary of Education, the Secretary of Health and Human Services, the Secretary of Housing and Urban Development, the Secretary of Energy, the Secretary of Labor, the Secretary of Transportation, the Secretary of the Treasury, the Director of the Office of Management and Budget, the Director of National Drug Control Policy, the Administrator of General Services, the Administrator of the Small Business Administration, the Administrator of the Environmental Protection Agency, or their designees, and such other senior executive branch officials as may be determined by the Task Force. The Chair of the Task Force shall rotate annually among the Secretaries of Agriculture, Housing and Urban Development, and Commerce in an order deter mined by those agency heads. Administrative support shall be provided by the then-current chair.

(c) The purpose of the Task Force is to coordinate and improve existing Federal efforts for the Valley, in concert with locally led efforts, in order to increase the living standards and the overall economic performance of the Valley. Economic development efforts shall include consideration of the preservation or enhancement of the natural environment and natural resources of the Valley. Specifically, the Task Force shall:

(1) analyze programs and policies of Task Force member agencies that relate to the Valley to determine what changes, modifications, and innovations should be considered, if any;

(2) consider statistical and data analysis, research, and policy studies related to the Valley;

(3) develop, recommend, and implement short-term and long-term options for promoting sustainable economic development;

(4) consult and coordinate activities with State, tribal, and local governments, community leaders, Members of Congress, the private sector, and other interested parties, paying particular attention to maintaining existing authorities of the States, tribes, and local governments, and preserving their existing working relationships with other agencies, organizations, or individuals;

(5) coordinate and collaborate on research and demonstration priorities of Task Force member agencies related to the Valley;

(6) integrate Federal initiatives and programs into the design of sustainable economic development actions for the Valley; and

(7) focus initial efforts on pilot communities for implementing a coordinated and expedited Federal response to local economic development and other needs.

(d) The Task Force shall issue an interim report to the President by January 15, 2001. The Task Force shall issue its first annual report to the President by September 15, 2001, with subsequent reports to follow annually for a period of 5 years. The reports shall describe the actions taken by, and progress of, each member of the Task Force in carrying out this order.

Sec. 2. Specific Activities by Task Force Members and Other Agencies. The agencies represented on the Task Force shall work together and report their actions and progress in carrying out this order to the Task Force Chair one month before the reports are due to the President under section 1(d) of this order.

Sec. 3. Cooperation. All efforts taken by agencies under sections 1 and 2 of this order shall, as appropriate, further partnerships and cooperation with organizations that represent the Valley and with State, tribal, and local governments.

Sec. 4. Definitions. (a) “Agency” means an executive agency as defined in 5 U.S.C. 105.

(b) The Central San Joaquin Valley or “Valley” means the counties of Fresno, Kern, Kings, Madera, Merced, Stanislaus, and Tulare in the State of California.

Sec. 5. Judicial Review. This order does not create any right or benefit, substantive or procedural, enforceable at law by a party against the United States, its agencies, its officers, or any person.

wj

THE WHITE HOUSE,

October 25, 2000.

[FR Doc. 00-27893

Filed 10-26-00; 11:42 am]

Billing code 3195-01-P